FEDERAL COMMUNICATIONS COMMISSION

47 CFR Part 73

[DA 00-944; MM Docket No. 96-242; RM-8940, RM-9243]

Radio Broadcasting Services; Cheyenne, WY, Grover, CO.

AGENCY: Federal Communications Commission.

ACTION: Final rule.

SUMMARY: The Commission, at the request of Montgomery Broadcasting Limited Liability Company, allots Channel 229A to Cheyenne, Wyoming, and dismisses the counterproposal for Channel 229C2 at Grover, Colorado, filed by Magic City Media at its request. See 61 FR 65509 (December 13, 1996). Channel 229A can be allotted to Cheyenne in compliance with the Commission's minimum distance separation requirements, with respect to domestic allotments, with a site restriction of 9.7 kilometers (6.0 miles), at coordinates 41-12-39 and 104-44-54. A filing window will not be opened at this time. Instead, the issue of opening a filing window for this channel will be addressed by the Commission in a subsequent order.

DATES: Effective June 12, 2000.

FOR FURTHER INFORMATION CONTACT: Victoria McCauley Mass Media Bureau, (202) 418-2180.

SUPPLEMENTARY INFORMATION: This is a synopsis of the Commission's Report and Order, MM Docket No. 96-242, adopted April 19, 2000, and released April 28, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Wyoming, is amended by adding Channel 229A at Cheyenne.

Federal Communications Commission.
John A. Karousos,
Chief, Allocations Branch, Policy and Rules Division, Mass Media Bureau.

[FR Doc. 00-11913 Filed 5-11-00; 8:45 am]

BILLING CODE 6712-01-P